DEPARTMENT OF COMMERCE

Economic Development Administration

Notice of Petitions by Producing Firms for Determination of Eligibility To Apply for Trade Adjustment Assistance

AGENCY: Economic Development Administration (EDA), Commerce.

ACTION: To give all Interested Parties an Opportunity to Comment.

Petitions have been accepted for filing on the dates indicated from the firms listed below.

List of Petition Action by Trade Adjustment Assistance for Period July 23, 2004-August 20, 2004
Firm name | Address | Date petition accepted | Product
Batching Systems, Inc | 50 Jibsail Drive, Prince Frederick, MD 20678 | 27-Jul-04 | Electronic counting and weighting equipment.
Big Sky Woodcrafters, Inc | 305 West Main Street, Laurel, MT 59044 | 28-Jul-04 | Wooden recognition items such as stands and bases that hold mementos and/or cards and photos, plaques, and cases out of wood.
Johnson Woolen Mills, LLC | P.O. Box 612, Johnson, VT 05656 | 28-Jul-04 | Men's wool coats.
Material Handling Systems, Inc | 8715 Bollman Place, Savage, MD 20763 | 28-Jul-04 | Custom material handling equipment including conveyors, dock equipment, storage and retrieval systems, cranes and hoists.
SinterMet, LLC | North Park Drive, West Hills Industrial Park, Kittanning, PA 16201 | 28-Jul-04 | Tungsten carbide and composite rolls for rod and bar mills in the steel industry.
Specialty Loose Leaf, Inc | One Cabot Street, Holyoke, MA 01040 | 28-Jul-04 | Scrapbooks.
Ultradent Products, Inc | 505 West 10200 South, South Jordan, UT 84095 | 28-Jul-04 | Dental cements, fillings and other preparations for oral or dental hygiene including pastes and powders.
Botkin Lumber Company, Inc | 5943 Busiek Road, Farmington, MO 63640 | 30-Jul-04 | Wooden pallet stock.
Mark Steel Corporation | 1230 W 200 S, Salt Lake City, UT 84116 | 30-Jul-04 | Steel tanks exceeding 300 liters.
Watman Headwear Corporation | 1852 Flushing Avenue, Ridgewood, NY 11385 | 30-Jul-04 | Hats and headwear.
William Alan, Inc | 2408 Ashford Street, High Point, NC 27260 | 30-Jul-04 | Upholstered and wood household furniture.
Maryland Thermoform Corp | 2717 Wilmaarco Avenue, Baltimore, MD 21223 | 16-Aug-04 | Fabricated plastic products and packaging.
Imperial Schrade Co., Inc | 7 Schrade Court, Ellenville, NY 12428 | 17-Aug-04 | Hunting and sporting knives.
G. Leblanc Corporation | 7001 Leblanc Boulevard, Kenosha, WI 53142 | 18-Aug-04 | Brass wind instruments, clarinets and saxophones.
Heath Electronic Manufacturing Corporation | 211 West Arthur Street, Glenns Ferry, Idaho 83623 | 18-Aug-04 | Electro-medical instrument parts.
Spectra Symbol Corporation | 3101 West 2100 South, Salt Lake City, UT 84119 | 18-Aug-04 | Membrane switches for automatic regulating and control instruments.
Structures of USA, Inc | 49 Cardiff Street, Johnstown, PA 15906 | 18-Aug-04 | Steel joist and decking.
Crisi Holding Trust and Subsidiary d.b.a. Acro-Matic Plastics | 31 Jytek Park, Leominster, MA 01453 | 19-Aug-04 | Injection molded parts for motor vehicles.
Valkyrie Company, Inc. (The) | 60 Fremont Street, Worcester, MA 01603 | 19-Aug-04 | Binders, handheld computer cases and wallets/billfolds.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7315, Economic Development Administration, U.S. Department of Commerce, Washington, DC 20230, no later than the close of business of the tenth calendar day following the publication of this notice. The Catalog of Federal Domestic Assistance official program number and title of the program under which these petitions are submitted is 11.313, Trade Adjustment Assistance.

Dated: August 24, 2004.
Anthony J. Meyer,
Senior Program Analyst, Office of Strategic Initiatives.

[FR Doc. 04-19700 Filed 8-27-04; 8:45 am]

BILLING CODE 3510-24-P